NATIONAL AERONAUTICS AND SPACE ADMINISTRATION

[Notice: (19-030)]

National Space-Based Positioning, Navigation and Timing Advisory Board; Meeting

AGENCY: National Aeronautics and Space Administration (NASA).

ACTION: Notice of meeting.

SUMMARY: In accordance with the Federal Advisory Committee Act, as amended, and the President's 2004 U.S. Space-Based Positioning, Navigation and Timing Policy, the National Aeronautics and Space Administration (NASA) announces a meeting of the National Space-Based Positioning, Navigation and Timing (PNT) Advisory Board.

DATES: Thursday, June 6, 2019, 8:30 a.m. to 5:30 p.m.; and Friday, June 7, 2019, 9:00 a.m. to 1:00 p.m., Eastern Time.

ADDRESSES: The Westin Hotel, Alexandria Old Town, 400 Courthouse Square, Alexandria, VA 22314.

FOR FURTHER INFORMATION CONTACT: Mr. James J. Miller, Designated Federal Officer, Human Exploration and Operations Mission Directorate, NASA Headquarters, Washington, DC 20546, (202) 358-4417, fax (202) 358-4297, or jj.miller@nasa.gov.

SUPPLEMENTARY INFORMATION: The meeting will be open to the public up to the seating capacity of the room. Visitors will be requested to sign a visitor's register.

The agenda for the meeting includes the following topics:

• Examine methods in which to Protect, Toughen, and Augment (PTA) access to Global Positioning System (GPS)/Global Navigation Satellite Systems (GNSS) services in key domains for multiple user sectors.

• Examine emerging trends and requirements for PNT services in U.S. and international fora through PNT Advisory Board technical assessments, including back-up services for terrestrial, maritime, aviation, and space users.

• Update on U.S. Space-Based PNT Policy and GPS modernization.

• Explore opportunities for enhancing the interoperability of GPS with other emerging international GNSS.

• Prioritize current and planned GPS capabilities and services while assessing future PNT architecture alternatives with a focus on affordability.

• Assess economic impacts of GPS/GNSS on the United States and in select international regions, with a consideration towards effects of potential PNT service disruptions if radio spectrum interference is introduced.

• Review the potential benefits, perceived vulnerabilities, and any proposed regulatory constraints to accessing foreign Radio Navigation Satellite Service (RNSS) signals in the United States and subsequent impacts on multi-GNSS receiver markets.

It is imperative that the meeting be held on these dates to accommodate the scheduling priorities of the key participants.

Patricia Rausch,
Advisory Committee Management Officer, National Aeronautics and Space Administration.

[FR Doc. 2019-10088 Filed 5-14-19; 8:45 am]

BILLING CODE 7510-13-P